CORPORATION FOR NATIONAL AND COMMUNITY SERVICE

Agency Information Collection Activities; Submission to the Office of Management and Budget for Review and Approval; Comment Request; AmeriCorps State and National Project Progress Reports

AGENCY: Corporation for National and Community Service.

ACTION: Notice of information collection; request for comment.

SUMMARY: The Corporation for National and Community Service, operating as AmeriCorps, has submitted a public information collection request (ICR) AmeriCorps State and National Project Progress Reports for review and approval in accordance with the Paperwork Reduction Act.

DATES: Written comments must be submitted to the individual and office listed in the ADDRESSES section by January 21, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by contacting Colleen Holohan, Acting Deputy Director, AmeriCorps State and National, 202-606-6656, or by email at cholohan@americorps.gov.

SUPPLEMENTARY INFORMATION: The OMB is particularly interested in comments which:

• Evaluate whether the proposed collection of information is necessary for the proper performance of AmeriCorps' functions, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on September 19, 2025 at 90 FR 45200. The comment period ended November 18, 2025. No relevant public comments were received in response to that notice.

Title of Collection: AmeriCorps State and National Project Progress Reports (PPRs).

OMB Control Number: 3045-0184.

Type of Review: Renewal.

Respondents/Affected Public: Businesses and Organizations; State, Local or Tribal Governments.

Total Estimated Number of Annual Responses: 454 (350 AmeriCorps State and National grnatees, 52 Commission Support Grant grantees, and 52 Commission Investment Fund grantees).

Total Estimated Number of Annual Burden Hours: 12,240.

Abstract: AmeriCorps uses information collected in the Project Progress Reports (PPRs) to assess AmeriCorps State and National grantee progress toward meeting approved objectives, to identify areas of challenge and opportunity, to guide the allocation of training and technical assistance resources, and to compile portfolio-wide data to report to external stakeholders. The currently approved information collection is due to expire on December 31, 2025. AmeriCorps seeks to renew the current information collection.

Arminda Pappas,
Acting Director, AmeriCorps State and National.

[FR Doc. 2025-23585 Filed 12-19-25; 8:45 am]

BILLING CODE 6050-28-P